FEDERAL COMMUNICATIONS COMMISSION

Radio Broadcasting Services; AM or FM Proposals To Change the Community of License

AGENCY: Federal Communications Commission.

ACTION: Notice.

SUMMARY: The following applicants filed AM or FM proposals to change the community of license: GRACE CHRISTIAN CHURCH OF AMARILLO, INC., Station KRBG, Facility ID 93643, BPED-20090507ADC, From HEREFORD, TX, To UMBARGER, TX; HRN BROADCASTING, INC., Station WOHS, Facility ID 26179, BP-20081224AAO, From SHELBY, NC, To CRAMERTON, NC; HUGHEY COMMUNICATIONS, INC., Station WQLS, Facility ID 63946, BP-20090508ACB, From OZARK, AL, To PIKE ROAD, AL; JAMES S. BUMPOUS D.B.A.YELLOW DOG RADIO, Station KSIL, Facility ID 87838, BPH-20090422AAS, From HURLEY, NM, To RINCON, NM; JEFF ANDRULONIS, Station WEAF, Facility ID 24146, BP-20090421ABJ, From SPRINGDALE, SC, To ST. STEPHEN, SC; JOEL J. KINLOW, Station NEW, Facility ID 161393, BMP-20090610ACF, From PINE BLUFF, AR, To WHITE HALL, GA; KONA COAST RADIO, LLC., Station NEW, Facility ID 170960, BNPH-20070502AGP, From CHEYENNE WELLS, CO, To LAKIN, KS; LEON HUNT, Station KBSF, Facility ID 62035, BP-20090421AAW, From SPRINGHILL, LA, To NASH, TX; PRAISE COMMUNICATIONS, INC, Station WTUA, Facility ID 23895, BPH-20090421ABK, From ST. STEPHEN, SC, To PINOPOLIS, SC; RED ZEBRA BROADCASTING LICENSEE, LLC, Station WWXT, Facility ID 43277, BPH-20090416ACJ, From PRINCE FREDERICK, MD, To DUNKIRK, MD; RED ZEBRA BROADCASTING LICENSEE, LLC, Station WWXX, Facility ID 16819, BPH-20090416ACO, From WARRENTON, VA, To BUCKLAND, VA; SAGA COMMUNICATIONS OF ARKANSAS, LLC, Station KEGI, Facility ID 53473, BPH-20090417AAL, From JONESBORO, AR, To TRUMANN, AR; SAGA COMMUNICATIONS OF ARKANSAS, LLC, Station KJBX, Facility ID 18085, BPH-20090417AAO, From TRUMANN, AR, To CASH, AR; TELESOUTH COMMUNICATIONS, INC., Station WKBB, Facility ID 6194, BPH-20090612AJR, From WEST POINT, MS, To MANTEE, MS.

DATES: Comments may be filed through August 25, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E9-15136 Filed 6-25-09; 8:45 am]

BILLING CODE 6712-01-P